DEPARTMENT OF TRANSPORTATION

Office of the Secretary

[Docket No. OST-2003-14873]

Notice of Request for Renewal of a Previously Approved Collection

AGENCY: Office of the Secretary, DOT.

ACTION: Notice.

SUMMARY: In accordance with the Paperwork Reduction Act of 1995, this notice announces the Department of Transportation's (DOT) intention to request extension of a previously approved information collection.

DATES: Comments on this notice must be received by September 5, 2003.

ADDRESSES: You may submit comments [identified by DOT DMS Docket Number OST-2003-14873 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington DC, between 9 am and 5 pm, Monday through Friday, except on Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 am and 5 pm, Monday through Friday, except Federal Holidays.

FOR FURTHER INFORMATION CONTACT: Todd Homan, Competition and Policy Analysis Division, X-55, Office of Aviation Analysis, Office of the Secretary, U.S. Department of Transportation, 400 Seventh Street, SW., Washington, DC 20590, (202) 366-1053.

SUPPLEMENTARY INFORMATION: Title: Airline Industry Conditions and Air Carriers, 49 U.S.C. 40113 and 41708.

OMB Control Number: 2105-0550.

Type of Request: Extension without change, of a previously approved collection.

Abstract: The Department of Transportation is collecting from major air carriers a variety of information about their economic performance. The purpose of this collection is to permit the Department to monitor the effects of the war in Iraq on the airlines. The Department needs to be able to monitor industry development and to use its authority as appropriate to address industry problems arising during the war.

By Order 2003-4-12, issued April 16, 2003, DOT imposed certain reporting requirements on thirteen airlines, on a twice-weekly basis, through June 2003. By this action, DOT is extending these requirements through September 30, 2003, but limiting submissions to once a week. While the war in Iraq has ended, the industry's poor operating results continued well past the cessation of major military operations. While there are recent preliminary indications that the airline industry is now stabilizing, the progress of recovery to date is not adequate to remove concerns about the industry's financial status and DOT finds it appropriate to continue our monitoring activities, to confirm that recovery continues unabated.

Respondents: Air Carriers.

Estimated Number of Respondents: 13.

Estimated Total Burden on Respondents: 221 hours.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology.

All responses to this notice will be summarized and included in the request for OMB approval. All comments will also become a matter of public record.

Issued in Washington, DC on June 27, 2003.
Randall D. Bennett,
Director, Office of Aviation Analysis.

[FR Doc. 03-16974 Filed 7-3-03; 8:45 am]

BILLING CODE 4910-62-P